DEPARTMENT OF THE INTERIOR

Bureau of Land Management

[L12100000.PH0000 CO 912]

Notice of Intent To Solicit Nominations for the Dominguez-Escalante National Conservation Area Advisory Council

AGENCY: Bureau of Land Management, Interior.

ACTION: Notice.

SUMMARY: The Secretary of the Interior (Secretary) is directed by the Omnibus Public Lands Act of 2009 to establish the Dominguez-Escalante National Conservation Area (D-E NCA) Advisory Council (Council). The Secretary is requesting nominations for 10 members to sit on the Council. The Council will advise the Secretary, through the Bureau of Land Management (BLM), on matters regarding the preparation and implementation of the D-E NCA Resource Management Plan (RMP).

DATES: Submit nomination packages on or before December 21, 2009.

ADDRESSES: Send completed Council nominations to D-E NCA Interim Manager, Grand Junction Field Office, 2815 H Road, Grand Junction, Colorado 81506. Nomination forms may be obtained at the Grand Junction Field Office at the above address or at the Uncompahgre Field Office, Bureau of Land Management, 2465 S. Townsend Avenue, Montrose, Colorado 81401.

FOR FURTHER INFORMATION CONTACT: Katie A. Stevens, D-E NCA Interim Manager, (970) 244-3049, Katie_A_Stevens@blm.gov.

SUPPLEMENTARY INFORMATION: The D-E NCA and Dominguez Canyon Wilderness Area, located within the D-E NCA, was established by the Omnibus Public Land Management Act of 2009, Public Law 111-11 (Act). The D-E NCA is comprised of approximately 209,610 acres of public land, including approximately 66,280 acres of wilderness, located in Delta, Montrose, and Mesa counties. The purposes of the D-E NCA are to conserve and protect, for the benefit and enjoyment of present and future generations, the unique and important resources and values of the land. These resources and values include the geological, cultural, archaeological, paleontological, natural, scientific, recreational, wilderness, wildlife, riparian, historical, educational, and scenic resources of the public lands, and the water resources of area streams that are necessary to support aquatic, riparian, and terrestrial species and communities. The Act also calls for the establishment of the D-E NCA Council, comprised of 10 members, to advise the Secretary, through the BLM, on matters regarding the preparation and implementation of an RMP for the area. These 10 members shall include, to the extent practicable:

(1) One member appointed after considering the recommendations of the Mesa County Commission;

(2) One member appointed after considering the recommendations of the Montrose County Commission;

(3) One member appointed after considering the recommendations of the Delta County Commission;

(4) One member appointed after considering the recommendations of the permittees holding grazing allotments within the D-E NCA; and

(5) Six members who reside in, or within reasonable proximity to Mesa, Delta, or Montrose Counties, Colorado, with backgrounds that reflect:

(A) The purposes for which the D-E NCA was established; and

(B) The interests of the stakeholders that are affected by the planning and management of the D-E NCA.

Any individual or organization may nominate one or more persons to serve on the Council. Individuals may nominate themselves for Council membership. Nomination forms may be obtained from the BLM Grand Junction or Uncompahgre Field Offices, or may be downloaded from the following Web site: http://www.blm.gov/co/st/en/fo/denca.html.

Nomination packages must include a completed nomination form, letters of reference from the represented interests or organizations, as well as any other information relevant to the nominee's qualifications.

The Grand Junction and Uncompahgre Field Offices will review the nomination packages in coordination with the affected counties and the Governor of Colorado before forwarding its recommendations to the Secretary, who will make the appointments.

The Council shall be subject to the Federal Advisory Committee Act, 5 U.S.C. App. 2; and the Federal Land Policy and Management Act of 1976, 43 U.S.C. 1701 et seq.

Authority: Sec. 2407 of Public Law 111-11.

Dated: November 2, 2009.
David B. Hunsaker,
Acting State Director.

[FR Doc. E9-27865 Filed 11-19-09; 8:45 am]

BILLING CODE 4310-JB-P